DEPARTMENT OF COMMERCE

National Oceanic and Atmospheric Administration

RIN 0648-XB092

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Oversight Committee and Advisory Panel in April, 2012 to consider actions affecting New England fisheries in the exclusive economic zone (EEZ). Recommendations from this group will be brought to the full Council for formal consideration and action, if appropriate.

DATES: This meeting will be held on Tuesday, April 3, 2012 at 10 a.m.

ADDRESSES: This meeting will be held at the Radisson Airport Hotel, 2081 Post Road, Warwick, RI 02886; telephone: (401) 739-3000; fax: (401) 732-9309.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee and Advisory Panel are meeting jointly to address the recent listing of Atlantic sturgeon under the Endangered Species Act. NMFS Protected Resources Division staff will brief the meeting participants on several aspects of this listing, including who is most affected and what it means to them. They are also seeking input on what strategies and measures should be considered to reduce the interaction of the monkfish fishery with sturgeon. The Mid-Atlantic Council representative will provide a brief on the results of the meeting of the Council's ad hoc Sturgeon Committee. The Committee will also consider developing recommendations to the Councils on a course of action to address the Biological Opinion, which is scheduled to be released on or shortly after April 6, when the listing becomes effective. Time permitting, the Council staff will update the Committee on the PDTs progress in developing Amendment 6 alternatives, and present results of any analyses that have been completed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: March 13, 2012.
Tracey L. Thompson,
Acting Director, Office of Sustainable Fisheries, National Marine Fisheries Service.

[FR Doc. 2012-6398 Filed 3-15-12; 8:45 am]

BILLING CODE 3510-22-P